DEPARTMENT OF STATE

[Public Notice 3664]

United States International Telecommunication Advisory Committee (ITAC)—Telecommunication Standardization Sector (ITAC-T) and U.S. Study Group A & B; Notice of Meetings

The Department of State announces meetings of the U.S. International Telecommunication Advisory Committee—Telecommunication Standardization (ITAC-T) National Committee and US Study Group A and B. The purpose of the Committees is to advise the Department on policy and technical issues with respect to the International Telecommunication Union and international telecommunication standardization and development. Except where noted, meetings will be held at the Department of State, 2201 “C” Street, NW., Washington, DC.

The ITAC-T National Committee will meet on May 30, 2001, from 2:00 to 5:00 at a location to be determined to continue drafting new ITAC-T Guidelines.

The ITAC-T U.S. Study Group A will meet from 9:30 to noon on June 4, 2001, to prepare for meetings of ITU-T Study Groups 2 and 3 at a location to be determined.

US Study Group B will meet on Thursday, June 14, 2001 from 9:30 to 3:30 at the Department of Commerce, Room B841A, 1401 Constitution Ave, NW., Washington, DC 20230 to prepare for the next ITU-T Study Group 4 meeting. Enter the building at the main entrance on 14th Street.

Members of the general public may attend these meetings. Directions to meeting locations and actual room assignments may be determined by calling the Secretariat at 202 647-0965/2592. For meetings held at the Department of State: entrance to the building is controlled; people intending to attend any of the ITAC meetings should send a fax to (202) 647-7407 not later than 24 hours before the meeting for preclearance. This fax should display the name of the meeting (ITAC T, U.S. Study Group) and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: May 15, 2001.
Marian Gordon,
Director, Telecommunication & Information Standardization, U.S. Department of State.

[FR Doc. 01-13148 Filed 5-21-01; 2:08 pm]

BILLING CODE 4710-45-P